FEDERAL COMMUNICATIONS COMMISSION

Notice of Public Information Collection(s) Being Reviewed by the Federal Communications Commission

September 22, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 28, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0971.

Title: Numbering Resource Optimization, Second Report and Order, Order on Reconsideration in CC Docket No. 96-98 and CC Docket No. 99-200, and Second Further Notice of Proposed Rulemaking in CC Docket No. 99-200.

Form No: N/A.

Type of Review: Extension of a currently approved collection.

Respondents: Business or other for-profit.

Number of Respondents: 2,050 respondents; 50,500 responses.

Estimated Time Per Response: .25-3 hours.

Frequency of Response: On occasion and semi-annual reporting requirements and third party disclosure requirement.

Total Annual Burden: 14,000 hours.

Total Annual Cost: N/A.

Privacy Act Impact Assessment: N/A.

Needs and Uses: The Second Report and Order imposed two information collection requirements on carriers. First, a request for “For Cause” auditing requests, the North American Number Plan Administrator (NANPA), the Pooling Administrator or a state commission must state, in writing, the reason for the request (such as misleading or inaccurate data) and provide supporting documentation. Audits will be performed by the Commission's Enforcement Bureau or by other designated agents. State commissions may participate in these audits along with the commission's auditors or its designated agents. Secondly, State commissions requesting copies of carriers' applications for initial and growth numbering resources should obtain such copies directly from the carriers, rather than from the NANPA or the Pooling Administrator. This approach avoids a costly burden on national numbering administration while placing only a minimal burden on carriers. The Commission is seeking an extension (no change in requirements) for this information collection. We are requesting continued OMB approval for this collection and thus, the full three-year clearance from the OMB.

Federal Communications Commission.
Marlene H. Dortch,
Secretary.

[FR Doc. 04-21729 Filed 9-27-04; 8:45 am]

BILLING CODE 6712-01-P